DEPARTMENT OF THE TREASURY

United States Mint

Notification of Citizens Coinage Advisory Committee Public Meeting—November 28, 2023

ACTION: Notice of meeting.

Pursuant to United States Code, Title 31, section 5135(b)(8)(C), the United States Mint announces the Citizens Coinage Advisory Committee (CCAC) public meeting scheduled for November 28, 2023.

FOR FURTHER INFORMATION CONTACT: Jennifer Warren, United States Mint Liaison to the CCAC; 801 9th Street NW, Washington, DC 20220; or call 202-354-7208.

SUPPLEMENTARY INFORMATION: Date: November 28, 2023.

Time: 9 a.m. to 4:30 p.m. (EST).

Location: 2nd Floor Conference Rooms; United States Mint; 801 9th Street, NW; Washington, DC 20220.

Subject: Review and discussion of reverse candidate designs for the 2025 American Innovation $1 Coins honoring innovations in Michigan and Arkansas; review and discussion of obverse and reverse candidate designs for the Army Rangers of World War II Congressional Gold Medal; review and discussion of reverse candidate designs for the 2025 Native American $1 coin; review and discussion of obverse and reverse candidate designs for a national medal to be used by the Los Angeles 2028 Summer Olympic Games as the “handover medallion” during the closing ceremony of the 2024 Paris Summer Olympic Games; and review and discussion of Flowing Hair gold coin and silver medal.

Interested members of the public may either attend the meeting in person or watch the meeting live stream on YouTube at https://www.youtube.com/channel/UC5nq6_7FAavGan-ZBgHCKyg/live.

If you will be attending in person, please contact Jennifer Warren (jennifer.warren@usmint.treas.gov) no later than November 20, 2023. Members of the public interested in attending the meeting in person will be admitted into the meeting room a first-come, first-serve basis as space is limited. All persons entering a United States Mint facility must adhere to building security protocols. This means they must consent to the search of their persons and objects in their possession while on government grounds and when they enter and leave the facility and are prohibited from bringing into the facility weapons of any type, illegal drugs, drug paraphernalia, or contraband. Based upon Federal law, Treasury policy, United States Mint policy, and local operating procedures, the United States Mint Police Officer conducting the screening will evaluate whether an item may be brought in or taken from the Mint facility, and all prohibited and unauthorized items will be subject to confiscation and disposal. Members of the public must provide a government ID (e.g., driver's license) to enter the Mint building.

Public should call the CCAC HOTLINE at (202) 354-7502 for the latest updates on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in watching on-line or attending in person, this is a reminder that the public attendance is for observation purposes only. Members of the public may submit matters for the CCAC's consideration by email to info@ccac.gov.

For Accommodation Request: If you require an accommodation to watch the CCAC meeting, please contact the Office Equal Employment Opportunity by November 20, 2023. You may submit an email request to Reasonable.Accommodations@usmint.treas.gov or call 202-354-7260 or 1-888-646-8369 (TTY).

(Authority: 31 U.S.C. 5135(b)(8)(C))

Eric Anderson,
Executive Secretary, United States Mint.

[FR Doc. 2023-24754 Filed 11-8-23; 8:45 am]

BILLING CODE 4810-37-P